DEPARTMENT OF VETERANS AFFAIRS

[OMB Control No. 2900-New (FSC)]

Proposed Information Collection Activity: Proposed Collection; Comment Request

AGENCY: Office of Management, Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each existing collection in use without an OMB control number, and allow 60 days for public comment in response to the notice. This notice solicits comments on information needed to obtain customers satisfaction on Financial Services Center (FSC) business process and system features.

DATES: Written comments and recommendations on the proposed collection of information should be received on or before July 3, 2006.

ADDRESSES: Submit written comments on the collection of information to Rachel A. Moffitt, Office of Management, Financial Services Center (104/BDD), Department of Veterans Affairs, 1615 Woodward Street, Austin, TX, 79772-001 or e-mail rachel.moffitt@mail.va.gov. Please refer to “OMB Control No. 2900-New (FSC)” in any correspondence.

FOR FURTHER INFORMATION CONTACT: Rachel A. Moffitt at (512) 460-5310 or fax to (512) 460-5117.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM's functions, including whether the information will have practical utility; (2) the accuracy of OM's estimate of the burden of the proposed collection of information; (3) ways to enhance the quality, utility, and clarity of the information to be collected; and (4) ways to minimize the burden of the collection of information on respondents, including through the use of automated collection techniques or the use of other forms of information technology.

Titles: FSC Product Line Survey.

OMB Control Number: 2900-New (FSC).

Type of Review: Existing collection in use without an OMB control number.

Abstract: Financial Services Center conducts annual surveys to evaluate customer satisfaction on various products and services. FCS data will use the data to improve FSC business practices and customer services.

Affected Public: Federal Government.

Estimated Annual Burden: 42 hours.

Estimated Average Burden Per Respondent: 5 minutes.

Frequency of Response: Annually.

Estimated Number of Respondents: 500.

Dated: April 25, 2006.
By direction of the Secretary.
Denise McLamb,
Program Analyst, Records Management Service.

[FR Doc. E6-6697 Filed 5-2-06; 8:45 am]

BILLING CODE 8320-01-P